DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The SDN List and additional information concerning OFAC sanctions programs are available on OFAC's website (https://www.treasury.gov/ofac).

Notice of OFAC Actions

On May 15, 2024, OFAC determined that the property and interests in property subject to U.S. jurisdiction of the following persons are blocked under the relevant sanctions authority listed below.

Individuals

1. GIBRIL, Ali Yagoub (a.k.a. JIBRIL, Ali Yagoub; a.k.a. JIBRIL, Ali Yaqoub), Sudan; DOB 01 Jan 1964; POB Zalingei, Central Darfur, Sudan; nationality Sudan; Gender Male; National ID No. 20510589109 (Sudan) (individual) [SUDAN-EO14098].

Designated pursuant to section 1(a)(ii)(A) of Executive Order 14098 of May 4, 2023, “Imposing Sanctions Certain Persons Destabilizing Sudan and Undermining the Goal of a Democratic Transition,” 88 FR 29529 (May 5, 2023)(E.O. 14908), for being a foreign person who is or has been a leader, official, senior executive officer, or member of the board of directors of the Rapid Support Forces, an entity that has, or whose members have been responsible for, or complicit in, or to have directly or indirectly engaged or attempted to engage in actions or policies that threaten the peace, security, or stability of Sudan, relating to the tenure of such leader, official, senior executive officer, or member of the board of directors.

2. MOHAMED, Osman Mohamed Hamid (a.k.a. HAMID, Osman Mohamed; a.k.a. MOHAMED, Osman Mohamed Hamed), Sudan; DOB 01 Jan 1966; POB Kadiqali, Sudan; nationality Sudan; Gender Male; Passport P05557591 (Sudan) expires 03 Mar 2024; National ID No. 11540384888 (Sudan) (individual) [SUDAN-EO14098].

Designated pursuant to section 1(a)(ii)(A) of E.O. 14908 for being a foreign person determined by the Secretary of the Treasury, in consultation with the Secretary of State, who is or has been a leader, official, senior executive officer, or member of the board of directors of any the Rapid Support Forces, an entity that has, or whose members have been responsible for, or complicit in, or to have directly or indirectly, engaged or attempted to engage in actions or policies that threaten the peace, security, or stability of Sudan, relating to the tenure of such leader, official, senior executive officer, or member of the board of directors.

Dated: May 15, 2024.
Bradley T. Smith,
Director, Office of Foreign Assets Control, U.S. Department of the Treasury.

[FR Doc. 2024-11006 Filed 5-17-24; 8:45 am]

BILLING CODE 4810-AL-P